DEPARTMENT OF COMMERCE

Economic Development Administration

[Docket No. 991215339-4132-11]

National Technical Assistance, Training, Research, and Evaluation

AGENCY: Economic Development Administration (EDA), Department of Commerce (DOC).

ACTION: Notice and request for proposals.

SUMMARY: The Economic Development Administration (EDA) announces general policies and application procedures for grant-based research and technical assistance investments that aim to increase prosperity by advancing comprehensive, entrepreneurial, and innovation-based economic development efforts. The research and technical assistance contemplated are intended to enhance the competitiveness of regional business environments resulting in increased private investment and higher-skill, higher-wage jobs.

DATES: Proposals for funding under this program will be accepted through May 28, 2004. Proposals received after 4 p.m. e.d.t., on May 28, 2004, will not be considered for funding. By June 16, 2004, EDA will notify proposers whether they will be given further funding consideration. The projects will be funded as soon as possible, but no later than September 30, 2004.

ADDRESSES: Research and Evaluation proposals may be e-mailed to klim1@eda.doc.gov; National Technical Assistance proposals may be e-mailed to jmcnamee@eda.doc.gov. Alternatively, Research and Evaluation proposals may be hand-delivered to: W. Kent Lim, U.S. Department of Commerce, Economic Development Administration, Room 1874, 1401 Constitution Avenue, NW., Washington, DC 20230. National Technical Assistance proposals may be hand-delivered to: Dr. John J. McNamee, U.S. Department of Commerce, Economic Development Administration, Room 1874, 1401 Constitution Avenue, NW., Washington, DC 20230; or Research and Evaluation proposals may be mailed to: W. Kent Lim, U.S. Department of Commerce, Economic Development Administration, Room 7015, 1401 Constitution Avenue, NW., Washington, DC 20230; National Technical Assistance proposals may be mailed to: Dr. John J. McNamee, U.S. Department of Commerce, Economic Development Administration, Room 7816, 1401 Constitution Avenue, NW., Washington, DC 20230.

FOR FURTHER INFORMATION CONTACT: For a copy of the full Federal Funding Opportunity (FFO) announcement for this request for proposals, contact the appropriate EDA officer listed above. The text of the full FFO announcement can also be accessed at EDA's Web site, http://www.eda.gov.

SUPPLEMENTARY INFORMATION:

Electronic Access: The full FFO announcement for the FY 2004 Economic Development Assistance Programs competition is available through EDA's Web site, http://www.eda.gov, and through Grants.gov at http://www.grants.gov.

Funding Availability: Funds in the amount of $805,000 have been appropriated for the National Technical Assistance (NTA) program and shall remain available until expended. Funds in the amount of $495,000 have been appropriated for the Research and Evaluation program for FY 2004 and shall remain available until expended.

Statutory Authority: Pub. L. 89-136, and as further amended by Pub. L. 105-393, 42 U.S.C. 3121 et seq.

CFDA: 11.303 Economic Development—Technical Assistance; 11.312 Economic Development—Research and Evaluation.

Eligibility: Eligible recipients of EDA financial assistance are defined at 13 CFR 300.2.

Cost Sharing Requirements: Ordinarily the amount of the EDA grant may not exceed 50 percent of the cost of the project. While cash contributions are preferred, in-kind contributions, fairly evaluated by EDA, may include contributions of space, equipment, and services, may provide the non-Federal share of the project cost. In-kind contributions must be eligible project costs and meet applicable Federal cost principles and uniform administrative requirements.

EDA may supplement the Federal share of a grant project where the applicant is able to demonstrate that the non-Federal share that would otherwise be required cannot be provided because of the overall economic situation. Potential applicants should contact the appropriate EDA office to make this determination.

Intergovernmental Review: Applications under this program are not subject to Executive Order 12372, “Intergovernmental Review of Federal Programs.”

Evaluation and Selection Procedures and Criteria:

A. Application

To apply for an award under this request, an eligible recipient must submit a proposal to EDA during the specified timeframe, at the address specified above. Proposals that do not meet all items required or that exceed the page limitations of the FFO will be considered nonresponsive, and will not be considered. Proposals that meet all the requirements will be evaluated by a review panel comprised of at least three members, all of whom will be full-time Federal employees. The panel first evaluates the proposals using the general evaluation criteria set forth in 13 CFR 304.1 and 304.2 and the supplemental evaluation criteria (Investment Policy Guidelines) set forth below. Proposals that meet these threshold criteria listed below will then be evaluated by the panel using the following criteria of approximate equal weight:

1. The quality of a proposal's response to the Scope of Work;

2. The ability of the applicant to successfully carry out the proposed activities; and

3. Cost to the Federal Government.

B. Supplemental Evaluation Criteria: Investment Policy Guidelines

EDA's mission is to increase prosperity by advancing comprehensive, entrepreneurial, and innovation-based economic development efforts to enhance the competitiveness of regional business environments resulting in increased private investment and higher-skill, higher-wage jobs.

All potential EDA investments will be analyzed using the following five Investment Policy Guidelines, which constitute supplemental evaluation criteria of approximate equal weight and which further define the criteria provided at 13 CFR 304.2.

1. Be market-based and results driven. An investment will capitalize on a region's competitive strengths and will positively move a regional economic indicator measured on EDA's Balanced Scorecard, such as: an increased number of higher-skill, higher-wage jobs; increased tax revenue; or increased private sector investment.

2. Have strong organizational leadership. An investment will have strong leadership, relevant project management experience, and a significant commitment of human resources talent to ensure a project's successful execution.

3. Advance productivity, innovation, and entrepreneurship. An investment will embrace the principles of entrepreneurship, enhance regional clusters, and leverage and link technology innovators and local universities to the private sector to create the conditions for greater productivity, innovation, and job creation.

4. Look beyond the immediate economic horizon, anticipate economic changes, and diversify the local and regional economy. An investment will be part of an overarching, long term comprehensive economic development strategy that enhances a region's success in achieving a rising standard of living by supporting existing industry clusters, developing emerging new clusters, or attracting new regional economic drivers.

5. Demonstrate a high degree of commitment by exhibiting:

• High levels of local government or non-profit matching funds and private sector leverage.

• Clear and unified leadership and support by local elected officials.

• Strong cooperation between the business sector, relevant regional partners and local, state and federal governments.

Selection Factors: The Assistant Secretary of Commerce for Economic Development is the Selecting Official, and will in the normal course follow the recommendation of the review panel. However, the Assistant Secretary may not make any selection, or he may substitute one of the lower rated proposals, if he determines that it better meets the overall objectives of the Public Works and Economic Development Act of 1965, as amended (Pub. L. 89-136, 42 U.S.C. 3121 et seq.), and as further amended by Pub. L. 105-393.

The Department of Commerce Pre-Award Notification Requirements for Grants and Cooperative Agreements

The Department of Commerce Pre-Award Notification Requirements for Grants and Cooperative Agreements contained in the Federal Register notice of October 1, 2001 (66 FR 49917), as amended by the Federal Register notice published on October 30, 2002 (67 FR 66109), are applicable to this solicitation.

Paperwork Reduction Act

This document contains collection-of-information requirements subject to the Paperwork Reduction Act (PRA). The use of Form ED-900A has been approved by OMB under the control number 0610-0094. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comments are not required by the Administrative Procedure Act or any other law for this notice concerning grants, benefits and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: April 26, 2004.
David A. Sampson,
Assistant Secretary for Economic Development.

[FR Doc. 04-9811 Filed 4-29-04; 8:45 am]

BILLING CODE 3510-24-P